DEPARTMENT OF ENERGY

Federal Energy Regulatory Commission

Combined Notice of Filings #1

Take notice that the Commission received the following electric corporate filings:

Docket Numbers: EC22-21-000.

Applicants: Evergreen Gen Lead, LLC.

Description: Application for Authorization Under Section 203 of the Federal Power Act of Evergreen Gen Lead, LLC.

Filed Date: 11/22/21.

Accession Number: 20211122-5266.

Comment Date: 5 p.m. ET 12/13/21.

Take notice that the Commission received the following Complaints and Compliance filings in EL Dockets:

Docket Numbers: EL15-55-004.

Applicants: Modesto Irrigation District and Turlock Irrigation District v. Pacific Gas and Electric Company.

Description: Turlock Irrigation District and Modesto Irrigation District submits Motion for Issuance of an order to show cause, Motion for Additional Remedies and Motion for Expedited Response time and expedited action.

Filed Date: 11/22/21.

Accession Number: 20211122-5220.

Comment Date: 5 p.m. ET 12/13/21.

Docket Numbers: EL19-47-000; EL19-63-000; ER21-2444-000; ER21-2877-000.

Applicants: Applicant not Found.

Description: Motion for Clarification or in the Alternative Motion for Waiver of the Independent Market Monitor for PJM.

Filed Date: 11/19/21.

Accession Number: 20211119-5045.

Comment Date: 5 p.m. ET 12/9/21.

Take notice that the Commission received the following electric rate filings:

Docket Numbers: ER19-1553-000.

Applicants: Southern California Edison Company.

Description: Annual Formula Transmission Rate Update Filing (TO2022) of Southern California Edison Company.

Filed Date: 11/19/21.

Accession Number: 20211119-5137.

Comment Date: 5 p.m. ET 12/10/21.

Docket Numbers: ER22-188-000.

Applicants: Indra Power Business CT, LLC.

Description: Supplement to October 22, 2021 Indra Power Business CT LLC tariff filing.

Filed Date: 11/22/21.

Accession Number: 20211122-5272.

Comment Date: 5 p.m. ET 12/13/21.

Docket Numbers: ER22-353-000.

Applicants: Indra Power Business MI, LLC.

Description: Supplement to November 5, 2021 Indra Power Business MI LLC tariff filing.

Filed Date: 11/22/21.

Accession Number: 20211122-5271.

Comment Date: 5 p.m. ET 12/13/21.

Docket Numbers: ER22-416-000.

Applicants: Indra Power Business NJ, LLC.

Description: Supplement to November 17, 2021 Indra Power Business NJ LLC tariff filing.

Filed Date: 11/22/21.

Accession Number: 20211122-5273.

Comment Date: 5 p.m. ET 12/13/21.

Docket Numbers: ER22-466-000.

Applicants: Tri-State Generation and Transmission Association, Inc.

Description: Tariff Amendment: Notice of Cancellation of Service Agreement 885 to be effective 2/25/2020.

Filed Date: 11/22/21.

Accession Number: 20211122-5230.

Comment Date: 5 p.m. ET 12/13/21.

Docket Numbers: ER22-467-000.

Applicants: Tri-State Generation and Transmission Association, Inc.

Description: § 205(d) Rate Filing: Service Agreement No. 899 to be effective 11/19/2020.

Filed Date: 11/23/21.

Accession Number: 20211123-5001.

Comment Date: 5 p.m. ET 12/14/21.

Docket Numbers: ER22-468-000.

Applicants: Midcontinent Independent System Operator, Inc.

Description: § 205(d) Rate Filing: 2021-11-23_SA 3751 NSP-Buffalo Ridge Wind FSA (J545) to be effective 1/23/2022.

Filed Date: 11/23/21.

Accession Number: 20211123-5052.

Comment Date: 5 p.m. ET 12/14/21.

Docket Numbers: ER22-469-000.

Applicants: Southwest Power Pool, Inc.

Description: § 205(d) Rate Filing: 1148R31 American Electric Power NITSA and NOAs to be effective 12/1/2021.

Filed Date: 11/23/21.

Accession Number: 20211123-5098.

Comment Date: 5 p.m. ET 12/14/21.

Docket Numbers: ER22-470-000.

Applicants: PJM Interconnection, L.L.C.

Description: Tariff Amendment: Notice of Cancellation of ISA, SA No. 3326; Queue No. W4-082 to be effective 1/27/2022.

Filed Date: 11/23/21.

Accession Number: 20211123-5126.

Comment Date: 5 p.m. ET 12/14/21.

Docket Numbers: ER22-471-000.

Applicants: Northern States Power Company, a Minnesota corporation.

Description: Tariff Amendment: 2021-11-23 NSP-SHKP-SISA-679-0.1.0-NOC to be effective 11/24/2021.

Filed Date: 11/23/21.

Accession Number: 20211123-5157.

Comment Date: 5 p.m. ET 12/14/21.

Docket Numbers: ER22-472-000.

Applicants: Indra Power Business DE LLC.

Description: Baseline eTariff Filing: Tariffs and Agreements to be effective 1/23/2022.

Filed Date: 11/23/21.

Accession Number: 20211123-5201.

Comment Date: 5 p.m. ET 12/14/21.

Docket Numbers: ER22-473-000.

Applicants: Tri-State Generation and Transmission Association, Inc.

Description: § 205(d) Rate Filing: Service Agreement No. 900 to be effective 2/25/2020.

Filed Date: 11/23/21.

Accession Number: 20211123-5206.

Comment Date: 5 p.m. ET 12/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2021.
Kimberly D. Bose,
Secretary.

[FR Doc. 2021-26044 Filed 11-29-21; 8:45 am]

BILLING CODE 6717-01-P